Proclamation 10470 of October 7, 2022

National School Lunch Week, 2022

By the President of the United States of America

A Proclamation

During National School Lunch Week, we recommit to supporting the National School Lunch Program that provides tens of millions of children a year access to nutrition, dignity, and a fairer shot at brighter futures, and we celebrate its role supporting American farmers and food producers, building a stronger America for future generations.

School meals remain a vital lifeline, supplying well-balanced, free or low-cost meals to kids across the country since the program began in 1946. Studies show these are often the most nutritious—and sometimes the only—meals in a student's day. They improve student health, making it easier for students to learn, and erode inequity while also advancing our fight against childhood obesity.

My Administration is committed to ending hunger in the United States by 2030, making healthy school meals available to even more kids, and supporting schools that pioneer new ways to improve nutritional quality, whether for breakfast, lunch, or summer and afterschool meals. To that end, this September, I convened the first White House Conference on Hunger, Nutrition, and Health in over 50 years, bringing together anti-hunger, nutrition, and public health advocates; food companies; health care providers; local, State, and Tribal governments; and Federal agencies. We released a national strategy to end hunger and reduce diet-related diseases while easing disparities across underserved communities—starting by expanding free school meals to 9 million more kids by 2032. Providing healthy food is central to children's ability to learn and thrive, and no child's future should be determined by the zip code they were born in or by the food their families can afford.

This strategy builds on my Administration's work to provide emergency food and nutrition assistance to those in need through our American Rescue Plan. It builds on our $60 million investment in Farm-to-School initiatives that benefit American farmers, connecting them to local schools which become reliable markets. We also made historic strides in slashing child poverty to its lowest rate on record by expanding the Child Tax Credit and through other actions.

Parents across our country want the same things for their kids: healthy food, clean water, good schools, and opportunities to dream big and access all the possibilities America offers. This week and always, my Administration pledges to do everything in its power to end child hunger and to put the promise of America in every child's reach. We thank the farmers, farm workers, and ranchers, as well as the educators and school nutrition professionals, who have gone above and beyond to keep our kids fed during the COVID-19 pandemic and who work so hard every day to make them strong for the future.

NOW, THEREFORE, I, JOSEPH R. BIDEN JR., President of the United States of America, by virtue of the authority vested in me by the Constitution and the laws of the United States, do hereby proclaim October 9 through October 15, 2022, as National School Lunch Week. I call upon all Americans to recognize and commemorate all those who operate the National School Lunch Program with activities that raise awareness of the steadfast efforts in supporting the health and well-being of our Nation's children.

IN WITNESS WHEREOF, I have hereunto set my hand this seventh day of October, in the year of our Lord two thousand twenty-two, and of the Independence of the United States of America the two hundred and forty-seventh.

[FR Doc. 2022-22406

Filed 10-12-22; 8:45 am]

Billing code 3395-F3-P